DEPARTMENT OF ENERGY

Federal Energy Regulatory Commission

[Docket No. CP06-421-000]

Transcontinental Gas Pipe Line Corporation; Notice of Availability of the Environmental Assessment for the Proposed Potomac Expansion Project

January 16, 2007.

The staff of the Federal Energy Regulatory Commission (Commission or FERC) has prepared the Environmental Assessment (EA) for the construction and operation of the Potomac Expansion Project as proposed by Transcontinental Gas Pipe Line Corporation (Transco) in the above-referenced docket.

The EA was prepared to satisfy the requirements of the National Environmental Policy Act. The staff concludes that approval of the proposed Potomac Expansion Project, with appropriate mitigating measures as recommended, would not constitute a major federal action significantly affecting the quality of the human environment. The EA evaluates alternatives to the proposal, including the no-action alternative.

The EA addresses the potential environmental effects of the construction and operation of the proposed Potomac Expansion Project in Campbell, Pittsylvania, and Fairfax Counties, Virginia, including the construction of:

• About 16.4 miles of 42-inch-diameter pipeline;

• About 3.4 miles of 30-inch-diameter pipeline replacement with 42-inch-diameter pipeline; and

• New and replacement aboveground facilities at existing aboveground facilities.

The purpose of the Potomac Expansion Project is to: expand delivery capacity on Transco's existing mainline pipeline system to deliver up to 165,000 dekatherms per day of incremental primary firm transportation from Transco's interconnects with East Tennessee Natural Gas and Pine Needle LNG to interconnects with the customers' local distribution systems in northern Virginia, Washington, DC, and Baltimore, Maryland.

The EA has been placed in the public files of the FERC. A limited number of copies of the EA are available for distribution and public inspection at: Federal Energy Regulatory Commission, Public Reference Room, 888 First Street NE, Room 2A, Washington, DC 20426, (202) 502-8371.

In addition, copies of the EA have been mailed to Federal, State, and local government agencies; elected officials; Native American tribes; local libraries and newspapers; intervenors in the FERC's proceeding; and affected landowners and individuals.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First Street, NE, Room 1A, Washington, DC 20426.

• Label one copy of the comments for the attention of the Gas Branch 1;

• Reference Docket No. CP06-421-000; and

• Mail your comments so that they will be received in Washington, DC on or before February 16, 2007.

The Commission strongly encourages electronic filing of any comments, interventions, or protests to this proceeding. See 18 CFR 385.2001(a)(1)(iii) and the instructions on the Commission's Web site at http://www.ferc.gov under the “e-Filing” link and the link to the User's Guide. Before you can file comments you will need to create a free account, which can be created by clicking on “Login to File” and then “New User Account.” You will be asked to select the type of filing you are making. This filing is considered a “Comment on Filing.”

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision. Anyone may intervene in this proceeding based on this EA. You must file your request to intervene as specified above.¹ You do not need intervenor status to have your comments considered.

¹ Interventions may also be filed electronically via the Internet in lieu of paper. See the previous discussion on filing comments electronically.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Magalie R. Salas,
Secretary.

[FR Doc. E7-786 Filed 1-19-07; 8:45 am]

BILLING CODE 6717-01-P